INTERNATIONAL TRADE COMMISSION

[Investigation No. 337-TA-1224]

Certain Digital Video-Capable Devices and Components Thereof; Notice of a Commission Determination Finding No Violation of Section 337; Termination of the Investigation

AGENCY: U.S. International Trade Commission.

ACTION: Notice.

SUMMARY: Notice is hereby given that the U.S. International Trade Commission (“Commission”) has determined to affirm in part, on modified grounds, reverse in part, and take no position in part on a final initial determination (“ID”) of the presiding administrative law judge (“ALJ”) finding no violation of section 337. The investigation is terminated.

FOR FURTHER INFORMATION CONTACT: Amanda P. Fisherow, Esq., Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the present investigation on October 22, 2020, based on a complaint and supplement thereto filed by Koninklijke Philips N.V. of Eindhoven, Netherlands and Philips North America LLC of Cambridge, Massachusetts (collectively, “Philips”). 85 FR 67373-74 (Oct. 22, 2020). The complaint, as supplemented, alleged violations of section 337 of the Tariff Act of 1930, as amended, 19 U.S.C. 1337, based upon the importation, sale for importation, and sale in the United States after importation of certain digital video-capable devices and components thereof by reason of infringement of certain claims of U.S. Patent Nos. 9,436,809 (“the '809 patent”); 9,590,977 (“the '977 patent”); 10,091,186 (“the '186 patent”); and 10,298,564 (“the '564 patent”). Id. at 67373. The complaint further alleged that an industry in the United States exists or is in the process of being established, as required by section 337. Id. The notice of investigation named the following respondents: Dell Technologies Inc. of Round Rock, Texas and Dell Inc. of Round Rock, Texas (together “Dell”); Hisense Co. Ltd. of Qingdao, China, Hisense Visual Technology Co., Ltd. of Qingdao, China, Hisense Electronics Manufacturing Company of America Corporation of Suwanee, Georgia, Hisense USA Corporation of Suwanee, Georgia, Hisense Import & Export Co. Ltd. of Qingdao, China, Hisense International Co., Ltd. of Qingdao, China, Hisense International (HK) Co., Ltd. of Sheung Wan, Hong Kong (SAR), and Hisense International (Hong Kong) America Investment Co., Ltd. of Sheung Wan, Hong Kong (SAR) (together, “Hisense”); HP, Inc. of Palo Alto, California (“HP”); Lenovo Group Ltd. of Quarry Bay, Hong Kong (SAR) and Lenovo (United States), Inc. of Morrisville, North Carolina (together, “Lenovo”); LG Electronics, Inc. of Seoul, Republic of Korea and LG Electronics USA, Inc. of Englewood Cliffs, New Jersey (together “LG”); TCL Industries Holdings Co., Ltd., of Guangdong, China, TCL Electronics Holdings Ltd. of Hong Kong Science Park, Hong Kong (SAR), TCL King Electrical Appliances (Huizhou) Co. Ltd. of Huizhou, China, TTE Technology, Inc. of Corona, California, TCL Moka International Ltd. of Sha Tin, Hong Kong, TCL Moka Manufacturing S.A. de C.V. of Tijuana, Mexico, TCL Smart Device (Vietnam) Company Ltd. of Binh Duong, Vietnam (together “TCL”); MediaTek Inc. of Hsinchu, Taiwan and MediaTek USA Inc. of San Jose, California (together “MediaTek”); Realtek Semiconductor Corp. of Hsinchu, Taiwan (“Realtek”); and Intel Corporation of Santa Clara, California (“Intel”). Id. at 67374. The Office of Unfair Import Investigations (“OUII”) is participating in the investigation. Id.

During the course of the investigation, Philips moved to terminate the investigation as to various claims, patents, and respondents, including LG and MediaTek. See Order No. 19, unreviewed by Comm'n Notice (Apr. 15, 2021), Order No. 21, unreviewed by Comm'n Notice (May 12, 2021), Order No. 26, unreviewed by Comm'n Notice (Jun 21, 2021), Order 32, unreviewed by Comm'n Notice (July 26, 2021), Order No. 40, unreviewed by Comm'n Notice (Aug. 2, 2021), and Order No. 46, unreviewed by Comm'n Notice (Aug. 10, 2021). The Respondents remaining in the investigation are Dell, Hisense, HP, Lenovo, TCL, Realtek, and Intel (together, “the Respondents”). The remaining asserted patent claims are: claims 1, 9, 11, 12, and 14 of the '186 patent; and claims 1, 18, 19, 21, and 25 of the '564 patent.

On October 21, 2021, the ALJ issued the subject ID. On November 2, 2021, Philips and OUII each filed petitions for review. Also, on November 2, 2021, Respondents Intel, HP, Dell, and Lenovo filed a contingent petition for review, and Respondents HP, Realtek, Dell, Lenovo, Hisense, and TCL filed a separate contingent petition for review. On November 10, 2021, Philips, OUII, and the Respondents each filed replies.

On December 20, 2021, the Commission determined to review the ID in part. Specifically, the Commission determined to review the ID's findings on claim construction, infringement, validity, and domestic industry for both of the '186 and '564 patents. Comm'n Notice of Review (Dec. 20, 2021). The Commission asked for briefing on certain issues under review and on remedy, bonding, and the public interest. The parties filed their initial responses on January 7, 2022 and their replies on January 14, 2022.

Having examined the record of this investigation, including the ID, the petitions for review, responses, and other submissions from the parties and the public, the Commission has determined that no violation of section 337 has occurred. Specifically, the Commission finds that the asserted claims of the '186 and '564 patents are not infringed and the domestic industry products do not practice the claims of the '186 and '564 patents. The Commission also takes no position on various issues, as set forth in the accompanying Opinion, including on the economic prong of the domestic industry requirement, anticipation, obviousness, and whether the written description requirement is met for the claim terms “predetermined time” and “certificate.” The Commission's determinations are explained more fully in the accompanying Opinion. All findings in the ID under review that are consistent with the Commission's determinations as set forth in the accompanying Opinion are affirmed.

The Commission vote for this determination took place on March 23, 2022.

The authority for the Commission's determination is contained in section 337 of the Tariff Act of 1930, as amended (19 U.S.C. 1337), and in Part 210 of the Commission's Rules of Practice and Procedure (19 CFR part 210).

By order of the Commission.
Issued: March 23, 2022.
Lisa Barton,
Secretary to the Commission.

[FR Doc. 2022-06528 Filed 3-28-22; 8:45 am]

BILLING CODE 7020-02-P